DEPARTMENT OF ENERGY

Federal Energy Regulatory Commission

[Docket No. CP18-118-000]

Rover Pipeline LLC; Notice of Schedule for Environmental Review of the UGS-Crawford Meter Station Project

On March 15, 2018, Rover Pipeline LLC filed an application in Docket No. CP18-118-000 requesting a Certificate of Public Convenience and Necessity pursuant to Section 7(c) of the Natural Gas Act to construct and operate certain natural gas pipeline facilities. The proposed project is known as the UGS-Crawford Meter Station Project (Project), and would receive up to 35 million standard cubic feet per day of pipeline quality natural gas from an interconnect with the gathering pipeline facilities of Utica Gas Services, LLC.

On March 28, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: July 13, 2018.

90-day Federal Authorization Decision Deadline: October 11, 2018.

If a schedule change becomes necessary, additional notice will be provided so that the relevant agencies are kept informed of the Project's progress.

Project Description

The Project would consist of one new meter and regulating station on agricultural land west of Highway 221 in Salem Township, Jefferson County, Ohio. The station would consist of various components including a horizontal filter separator, ultrasonic meter skid, flow control skid, gas quality and measurement buildings, satellite communications, and a condensate storage tank. The facility would be constructed on 3.64 acres of land, of which 0.9 acre would be fenced and maintained for operation.

Background

On May 1, 2018, the Commission issued a Notice of Intent to Prepare an Environmental Assessment for the Proposed UGS-Crawford Meter Station Project and Request for Comments on Environmental Issues (NOI). The NOI was sent to affected landowners; federal, state, and local government agencies; elected officials; Native American tribes; other interested parties; and local libraries. In response to the NOI, the Commission received comments from U.S. Fish and Wildlife Service regarding impacts on multiple federally listed sensitive species. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 26, 2018.
Kimberly D. Bose,
Secretary.

[FR Doc. 2018-14222 Filed 7-2-18; 8:45 am]

BILLING CODE 6717-01-P